FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 10, 2022.

A. Federal Reserve Bank of Chicago (Colette A. Fried, Assistant Vice President) 230 South LaSalle Street, Chicago, Illinois 60690-1414:

1. The David C. Neuhaus Bank Stock Revocable Trust, Fairfax, Iowa; Laurie Neuhaus, as trustee, Amana, Iowa; Patrick E. Slater, Lois E. Slater and John C. Slater, all of Cedar Rapids, Iowa; and David J. Slater, Lakewood, Colorado; to become members of the Neuhaus Family Control Group, a group acting in concert, to retain voting shares of Vanderbilt Holding Company, Inc., and thereby indirectly retain voting shares of Fairfax State Savings Bank, both of Fairfax, Iowa. Additionally, Patrick E. Slater to acquire additional voting shares of Vanderbilt Holding Company, Inc., and thereby indirectly acquire voting shares of Fairfax State Savings Bank.

2. Jeffrey Ilstrup, Onalaska, Wisconsin, and Richard Davig, Viroqua, Wisconsin; to become members of the Ilstrup Family Control Group, a group acting in concert, to acquire additional voting shares of Firsnabanco, Inc., and thereby indirectly acquire voting shares of Citizens First Bank, both of Viroqua, Wisconsin.

B. Federal Reserve Bank of Kansas City (Jeffrey Imgarten, Assistant Vice President) 1 Memorial Drive, Kansas City, Missouri 64198-0001:

1. The Graydon J. Kincaid, Jr. 2020 Trust, dated December 1, 2020, Graydon J. Kincaid, Jr., as trustee, both of Mission Hills, Kansas; to acquire voting shares of Northeast Kansas Bancshares, Inc., and thereby indirectly acquire voting shares of Kendall Bank, both of Overland Park, Kansas.

2. Ryan C. Sullivan, Mission Hills, Kansas, and Bryan J. Adams, Fairway, Kansas; to form the Sullivan/Adams control group, a group acting in concert, to retain voting shares of Northeast Kansas Bancshares, Inc., and thereby indirectly retain voting shares of Kendall Bank, both of Overland Park, Kansas.

Board of Governors of the Federal Reserve System, February 18, 2022.
Michele Taylor Fennell,
Deputy Associate Secretary of the Board.

[FR Doc. 2022-03952 Filed 2-23-22; 8:45 am]

BILLING CODE P